DEPARTMENT OF COMMERCE

National Oceanic and Atmospheric Administration

50 CFR Part 665

[Docket No. 211025-0216]

RIN 0648-BK29

Pacific Island Fisheries; Electronic Logbooks for Hawaii and American Samoa Pelagic Longline Fisheries; Correction

AGENCY: National Marine Fisheries Service (NMFS), National Oceanic and Atmospheric Administration (NOAA), Commerce.

ACTION: Final rule; correcting amendment.

SUMMARY: This document corrects an inadvertent drafting error in final regulations published in the Federal Register on August 5, 2021, and effective on September 7, 2021. NMFS is reinstating a reporting requirement for the main Hawaiian Islands (MHI) non-commercial bottomfish fishery that was removed inadvertently in the final rule. The intent of this rule is to ensure continued timely monitoring and reporting of catch and other information.

DATES: Effective on November 1, 2021, and applicable beginning September 7, 2021.

FOR FURTHER INFORMATION CONTACT: Heather Cronin, Sustainable Fisheries, NMFS Pacific Islands Regional Office, 808-725-5179.

SUPPLEMENTARY INFORMATION: On August 5, 2021, NMFS published a final rule that required the use of electronic logbooks in the Hawaii pelagic longline fisheries and on Class C and D vessels in the American Samoa pelagic longline fishery (86 FR 42744). In that final rule, NMFS inadvertently removed an unrelated regulation at 50 CFR 665.14(b)(2)(ii). That section requires permit holders in the MHI non-commercial bottomfish fishery to submit logbook reports within 72 hours of the end of the fishing trip. That reporting requirement was established in Amendment 14 to the Fishery Management Plan for the Bottomfish and Seamount Groundfish Fisheries of the Western Pacific Region (replaced in part by the Fishery Ecosystem Plan for the Hawaiian Archipelago). The requirement has been in place since 2008 and should not have been removed (see 73 FR 18450, April 4, 2008; 73 FR 41296, July 18, 2008; and 75 FR 2198, January 10, 2010). This correcting amendment reinstates the requirement.

List of Subjects in 50 CFR 665

Administrative practice and procedure, Bottomfish, Fisheries, Fishing, Hawaii, Pacific Islands, Reporting and recordkeeping requirements.

Dated: October 26, 2021.
Samuel D. Rauch, III,
Deputy Assistant Administrator for Regulatory Programs National Marine Fisheries Service.

For the reasons set out in the preamble, NMFS amends 50 CFR part 665 as follows:

PART 665—FISHERIES IN THE WESTERN PACIFIC

1. The authority citation for 50 CFR part 665 continues to read as follows:

Authority: 16 U.S.C. 1801 et seq.

2. In § 665.14, add paragraph (b)(2)(ii) to read as follows:

§ 665.14 Reporting and recordkeeping.

* * * * *

(b) * * *

(2) * * *

(ii) If fishing was authorized under a permit pursuant to § 665.203(a)(2), the vessel operator or vessel owner must submit the original logbook form for each day of the fishing trip to the Regional Administrator within 72 hours of the end of each fishing trip.

* * * * *

[FR Doc. 2021-23636 Filed 10-29-21; 8:45 am]

BILLING CODE 3510-22-P